DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

National Railroad Passenger Corporation

[Docket Number FRA-2003-14444]

The National Railroad Passenger Corporation (Amtrak) has petitioned for a permanent waiver of compliance for the Acela trainsets and HHP-8 Electric locomotives from certain dimensional requirements of the Railroad Passenger Equipment Safety Standards, 49 CFR 238.429 and Safety Appliance Standards, 49 CFR 231.14. Amtrak requests this relief due to the unique carbody design of this new equipment and its structural frame that precludes installation of safety appliances compliant with the safety standards. Amtrak and the equipment's manufacturer have made every effort to bring the safety appliance arrangement into compliance, but find it not possible for the following items:

• Requirements of § 238.429(d)(4) & § 231.14(c)(3)(ii)—“The maximum and minimum distances from the top of the rail for vertical handrails and handholds shall be 51 inches * * *”.

Proposed alternate compliance—The current handholds are approximately 68 inches from the top of the rail. The structural integrity of the carbody side sill would be compromised by strict adherence to this dimensional requirement. Amtrak proposes an alternate solution with the installation of additional horizontal handholds on either side of the cab door, approximately 53 to 54 inches from the top of the rail. These additional handholds will provide personnel the support necessary for a safe ingress to the powercar or locomotive cab area while eliminating the danger of weakening the side sill structure. Additionally, carbody clearance constraints and strict infrastructure clearance limits dictate that the horizontal handholds have a maximum clearance of 2.0 inches.

• Requirements of § 238.429(d)(5)—“Vertical handrails and handholds shall continue to a point equal to the top edge of the control cab door.”

Relief Requested—The powercar's structural members are arranged such that they extend to a point several inches below the top of the control cab door to maximize the integrity of the upper framework. The vertical handholds are arranged to avoid interference with these structural members. Serious consideration was given toward applying a horizontal handhold on the uppermost portion of the doorframe interior as an alternate compliance, but after further analysis Amtrak determined that this would pose a greater safety risk during the ingress and egress of personnel at this location. Therefore, permanent relief from the requirement that the vertical handhold continue to a point equal to the top edge of the control cab door is requested.

• Requirements of § 238.429(e)(4) & 231.14(b)(2)—“The minimum clear depth of the sill step shall be 8 inches''.

Regarding the sill steps, to decrease the distance in the vertical rise measurement from the original 21 inches it was necessary to raise the upper step. This revised design maintains the clear depth measurement at 7.5 inches. Amtrak believes that decreasing the vertical rise while maintaining the depth between the step and the carbody ensures a safer sill step area.

• Requirements of § 238.429(e)(6) & § 231.14(b)(4)—“Sill steps shall not have a vertical rise between treads exceeding 18 inches''.

Proposed alternate compliance—The original sill step configuration had a vertical rise of 21 inches due to constraints with the design of the carbody's side sill. This alternate design lowers this distance to approximately 20 inches. However, further decrease of this dimension would result in a corresponding decrease of the 7.5-inch clear depth of the sill step.

• Requirements of § 238.429(e)(10)—“50% of the tread surface area of each sill step shall be open space''.

Proposed alternate compliance—Amtrak believes that the current serrated design for the lower step, with 2.25-inch high foot guards on each side, combined with a non-skid surface material would provide a safer tread surface than a more traditional open space design.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (Waiver Petition Docket Number FRA-2003-14444) and must be submitted to the Docket Clerk, DOT Central Docket Management Facility, Room PL-401, Washington, DC, 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC on June 11, 2003.
Grady C. Cothen, Jr.,
Deputy Associate Administrator for Safety Standards and Program Development.

[FR Doc. 03-15392 Filed 6-17-03; 8:45 am]

BILLING CODE 4910-06-P